DEPARTMENT OF COMMERCE

Foreign-Trade Zones Board

[Order No. 1294]

Expansion of Foreign-Trade Zone 148, Knoxville, Tennessee, Area

Pursuant to its authority under the Foreign-Trade Zones Act of June 18, 1934, as amended (19 U.S.C. 81a-81u), the Foreign-Trade Zones Board (the Board) adopts the following Order:

Whereas, the Industrial Development Board of Blount County, grantee of Foreign-Trade Zone 148, submitted an application to the Board for authority to expand FTZ 148 to include a new site (Site 4) within the CoLinx warehousing facilities in Crossville, Tennessee, adjacent to the Knoxville Customs port of entry (FTZ Docket 9-2003; filed 2/6/03);

Whereas, notice inviting public comment was given in the Federal Register (68 FR 9047, 2/27/03) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to expand FTZ 148 is approved, subject to the Act and the Board's regulations, including Section 400.28.

Signed at Washington, DC, this 21st day of August 2003.
Jeffrey May,
Acting Assistant Secretary of Commerce for Import Administration, Alternate Chairman, Foreign-Trade Zones Board.

[FR Doc. 03-22439 Filed 9-2-03; 8:45 am]

BILLING CODE 3510-DS-P